DEPARTMENT OF COMMERCE

Foreign-Trade Zones Board

[Docket 28-2002]

Foreign-Trade Zone 84, Houston, TX Application for Expansion

An application has been submitted to the Foreign-Trade Zones Board (the Board) by the Port of Houston Authority, grantee of FTZ 84, requesting authority to expand its zone to include a site at the Williams Terminals Holdings, L.P. (Williams) petroleum products storage terminal located near Galena Park, Harris County, Texas, within the Houston-Galveston Customs Port of Entry. The application was submitted pursuant to the provisions of the Foreign-Trade Zones Act, as amended (19 U.S.C. 81a-81u), and the regulations of the Board (15 CFR part 400). It was formally filed on June 25, 2002.

FTZ 84 was approved on July 15, 1983. The zone project currently consists of 14 sites in Harris County, Texas.

The applicant is now requesting authority to expand the general-purpose zone to include Proposed Site 15 (196 acres)—at the Williams Terminals Holdings, L.P. (Williams) petroleum terminal located in Harris County, Texas, near Galena Park. The site includes all of the facilities of the Williams Galena Park Terminal, including the buildings, dock facilities, storage tanks, pipelines, manifolds, pumps, valves, filters, meters, etc. The terminal includes 138 storage tanks for intermediate and finished petroleum products with a total capacity of 9,077,800 barrels. The facilities (50 employees) will primarily be used to store and distribute intermediates and finished petroleum products for oil refineries and petrochemical plants. Some of the products are or will be sourced from abroad or from U.S. subzone refineries under zone procedures. Williams will be the operator of the site.

Zone procedures would exempt Williams' customers from Customs duties and federal excise taxes on foreign status jet fuel used for international flights and from Customs duties on petroleum product exports. On domestic sales, customers would be able to defer Customs duty payments on foreign status products until they leave the facility. The application indicates that the savings from zone procedures for its customers would help them improve their international competitiveness.

No specific manufacturing requests are being made at this time. Such requests would be made on a case-by-case basis.

In accordance with the Board's regulations, a member of the FTZ Staff has been designated examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St. NW, Washington, DC 20005; or

2. Submissions Via the U.S. Postal Service: Foreign-Trade-Zones Board, U.S. Department of Commerce, FCB—Suite 4100W, 1401 Constitution Ave. NW, Washington, DC 20230.

The closing period for their receipt is August 30, 2002. Rebuttal comments in response to material submitted during the foregoing period may be submitted during the subsequent 15-day period until September 16, 2002.

A copy of the application and accompanying exhibits will be available for public inspection at the Office of the Foreign-Trade Zones Board's Executive Secretary at address Number 1 listed above, and at the U.S. Department of Commerce Export Assistance Center, 500 Dallas, Suite 1160, Houston, Texas 77002.

Dated: June 25, 2002.
Dennis Puccinelli,
Executive Secretary.

[FR Doc. 02-16510 Filed 6-28-02; 8:45 am]

BILLING CODE 3510-DS-P